DEPARTMENT OF THE INTERIOR

Fish and Wildlife Service

[FWS-HQ-NAL-2015-N174]; [FXGO1660091NALO156FF09D02000]

Native American Policy for the U.S. Fish and Wildlife Service

AGENCY: Fish and Wildlife Service, Department of the Interior.

ACTION: Draft policy for public notice and comment; reopening of comment period.

SUMMARY: We, the Fish and Wildlife Service (Service), are reopening the comment period for the draft Native American Policy, which we announced for public comment in the Federal Register on August 2, 2015. The purpose of this Policy is to further the United States' trust responsibility to Indian tribes by establishing a framework on which to base our continued interactions with federally recognized tribes and Alaska Native Corporations. The Policy recognizes the sovereignty of federally recognized tribes; states that the Service will work on a government-to-government basis with tribal governments; and includes guidance on co-management, access to and use of cultural resources, capacity development, law enforcement, and education.

DATES: The Service will accept public comment through October 21, 2015.

ADDRESSES: The draft Native American Policy is available at www.fws.gov/policy/draft510fw1.pdf. The existing Policy is available in the Fish and Wildlife Service Manual at http://www.fws.gov/policy/native-american-policy.pdf. To submit comments, please mail or email them to Scott Aikin (see FOR FURTHER INFORMATION CONTACT).

FOR FURTHER INFORMATION CONTACT: Scott Aikin, Native American Programs Coordinator, by mail at U.S. Fish and Wildlife Service, 911 NE 11th Avenue, Portland, OR 97232; or via email at scott_aikin@fws.gov.

SUPPLEMENTARY INFORMATION: We are reopening the comment period for the draft Native American Policy, which we made available for public comment from August 2, 2015 (80 FR 46043), through September 2, 2015. The purpose of this Policy is to further the United States' trust responsibility to Indian tribes by establishing a framework on which to base our continued interactions with federally recognized tribes and Alaska Native Corporations. The Policy recognizes the sovereignty of federally recognized tribes; states that the Service will work on a government-to-government basis with tribal governments; and includes guidance on co-management, access to and use of cultural resources, capacity development, law enforcement, and education.

The draft Native American Policy is available for review and comment at www.fws.gov/policy/draft510fw1.pdf. For the overview we provided in our August 2, 2015, Federal Register notice, see 80 FR 46043.

Open Comment Period

This publication opens a new 30-day comment period, during which we invite and encourage tribes and Alaska Native Corporations (ANCs) to continue to review and submit comments. The Service's invitation to federally recognized tribal governments to consult on a government-to-government basis regarding development of this updated Native American Policy continues until 30 days after this Federal Register notification. Comments from local, State, and Federal government agencies; federally recognized tribal governments; non-federally recognized tribal governments; ANCSA corporations; and the general public are welcome. If you submitted comments or information during the initial open comment period, which ended on September 2, 2015 (80 FR 46043), you need not resubmit them. They will be reviewed and considered.

Public Availability of Comments

Before including your address, phone number, email address, or other personal identifying information in your comments, you should be aware that your entire comment, including your personal identifying information, may be made publicly available at any time. While you can ask us in your comment to withhold your personal identifying information from public review, we cannot guarantee that we will be able to do so.

Dated: September 4, 2015.
James W. Kurth,
Acting Director, U.S. Fish and Wildlife Service.

[FR Doc. 2015-23689 Filed 9-18-15; 8:45 am]

BILLING CODE 4310-55-P